DEPARTMENT OF HEALTH AND HUMAN SERVICES

National Institutes of Health

National Center for Complementary & Alternative Medicine; Amended Notice of Meeting

Notice is hereby given of a change in the meeting of the National Center for Complementary and Alternative Medicine Special Emphasis Panel, December 7, 2007, 8 a.m. to December 7, 2007, 5 p.m., Bethesda Marriott, 5151 Pooks Hill Road, Bethesda, MD, 20814 which was published in the Federal Register on November 13, 2007, 72FR63915.

This meeting is being amended to change the format to a telephone conference and to change the date from December 7, 2007 to December 18, 2007. The meeting is closed to the public.

Dated: November 27, 2007.
Jennifer Spaeth,
Director, Office of Federal Advisory Committee Policy.

[FR Doc. 07-5928 Filed 12-04-07; 8:45 am]

BILLING CODE 4140-01-M